DEPARTMENT OF THE INTERIOR

Fish and Wildlife Service

[FWS-R6-ES-2024-N010; FXES11130600000-245-FF06E00000]

Endangered and Threatened Species; Receipt of Recovery Permit Applications

AGENCY: Fish and Wildlife Service, Interior.

ACTION: Notice of receipt of permit applications; request for comments.

SUMMARY: We, the U.S. Fish and Wildlife Service, have received applications for permits, permit renewals, and/or permit amendments to conduct activities intended to enhance the propagation or survival of endangered species under the Endangered Species Act. We invite the public and local, State, Tribal, and Federal agencies to comment on these applications. Before issuing any of the requested permits, we will take into consideration any information that we receive during the public comment period.

DATES: We must receive written data or comments on the applications by April 1, 2024.

ADDRESSES: Document availability and comment submission: Use one of the following methods to request documents or submit comments. Requests and comments should specify the applicant name(s) and application number(s) (e.g., Smith, PER0123456 or Jones, ES-056001):

• Email: permitsR6ES@fws.gov.

• U.S. Mail: Tom McDowell, Division Manager, Ecological Services, U.S. Fish and Wildlife Service, P.O. Box 25486 DFC, Denver, CO 80225.

FOR FURTHER INFORMATION CONTACT: Robert Krijgsman, Recovery Permits Coordinator, Ecological Services, 303-236-4347 (phone), or permitsR6ES@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act and the Freedom of Information Act.

Background

With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies and the public to submit written data, views, or arguments with respect to these applications. The comments and recommendations that will be most useful and likely to influence agency decisions are those supported by quantitative information or studies. Proposed activities in the following permit requests are for the recovery and enhancement of propagation or survival of the species in the wild.

Permit No. | Applicant | Species | Location | Activity | Permit action
ES-08832A | Utah State University, Logan, UT | • Colorado pikeminnow (Ptychocheilus lucius) • Bonytail (Gila elegans) • Razorback sucker (Xyrauchen texanus) | Colorado, New Mexico, and Utah | Survey, capture, handle, electrofish, tag, track, and perform habitat restoration | Renew.
ES-053839 | SME Environmental Consultants, Durango, CO | • Southwestern willow flycatcher (Empidonax traillii extimus) | Arizona, Colorado, New Mexico, and Utah | Play taped vocalizations for surveys | Renew and amend.
PER2685848 | Natural Resources Conservation Service, Grand Junction, CO | • Southwestern willow flycatcher (Empidonax traillii extimus) | Colorado | Play taped vocalizations for surveys | New.
PER4748347 | Brackett Mays, Durango, CO | • Southwestern willow flycatcher (Empidonax traillii extimus) | Colorado and Utah | Play taped vocalizations, capture, handle, and release for surveys | New.
ES-067729 | Kansas State University, Manhattan, KS | • Colorado pikeminnow (Ptychocheilus lucius) • Razorback sucker (Xyrauchen texanus) • Topeka shiner (Notropis topeka (=tristis)) | Kansas, New Mexico, and Utah | Survey, capture, electrofish, handle, tag, attach radio transmitters, collect tissue, transport, translocate, captively breed, and research | Renew and amend.
PER8349103 | Matthew Bain, Oakley, KS | • Lesser prairie-chicken (Tympanuchus pallidicinctus) | Colorado, Kansas, New Mexico, and Oklahoma | Survey and monitor | New.
PER4854259 | Cailene Bovee, Bozeman, MT | • Northern Long-Eared Bat (Myotis septentrionalis) • Indiana bat (Myotis sodalis) • Gray bat (Myotis grisescens) • Tricolored bat (Perimyotis subflavus) | Throughout the range of each species in the U.S | Capture, handle, identify, band, radio tag, swab, collect biological samples, and release | New.

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

If we decide to issue a permit to an applicant listed in this notice, we will publish a notice in the Federal Register.

Authority

We publish this notice under section 10(c) of the Endangered Species Act of 1973, as amended (16 U.S.C. 1531 et seq.).

Marjorie Nelson,
Acting Assistant Regional Director, Mountain-Prairie Region.

[FR Doc. 2024-04292 Filed 2-29-24; 8:45 am]

BILLING CODE 4333-15-P